NUCLEAR REGULATORY COMMISSION

[NRC-2019-0233]

Target set Identification and Development for Nuclear Power Plants

AGENCY: Nuclear Regulatory Commission.

ACTION: Regulatory guide; issuance.

SUMMARY: The U.S. Nuclear Regulatory Commission (NRC) is issuing Revision 1 to Regulatory Guide (RG) 5.81, “Target set Identification and Development for Nuclear Power Plants,” as a final RG. RG 5.81 provides guidance the NRC considers acceptable for applicant or licensee analysis, development, documentation, and reevaluation of target set elements and target sets, including preventive operator actions that may be credited to prevent core damage (e.g., non-localized fuel melting, and/or core destruction) or loss of spent fuel coolant and exposure of spent fuel. This revision of the guide (Revision 1) clarifies issues that have been identified through interactions with stakeholders and inspection activities since the original publication of the guide.

DATES: Revision 1 to RG 5.81 is available on December 23, 2019.

ADDRESSES: Revision 1 to RG 5.81 contains Official Use Only—Security Related Information (OUO-SRI). Therefore, this RG is being withheld from public disclosure, but is available to those affected licensees, stakeholders who have established a need to know and cleared stakeholders who have access authorization. For access to RG 5.81, contact the individuals listed in the FOR FURTHER INFORMATION CONTACT section.

FOR FURTHER INFORMATION CONTACT: Wesley Held, Office of Nuclear Security and Insident Response, U.S. Nuclear Regulatory Commission, telephone: 301-287-3591, email: Wesley.Held@nrc.gov; or Mekonen Bayssie,Office of Nuclear Regulatory Research; telephone: 301-415-1699, email: Mekonen.Bayssie@nrc.gov. Alternatively, you may make suggestions or comments on RG 5.81 via email to: RegulatoryGuideDevelopmentBranch.Resource@nrc.gov. Please do not include any potentially classified or sensitive information in your email.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Regulatory Guide 5.81 provides licensees with guidance on meeting the requirements described in section 73.55(f) of title 10 of the Code of Federal Regulations (10 CFR),”Target Sets.” Specifically, it sets forth approaches that the NRC considers acceptable for use by applicants or licensees in analyzing, developing, documenting, and evaluating target set elements and target sets, including operator actions that may be credited to prevent core damage (e.g., non-localized fuel melting, and/or core destruction) or loss of spent fuel coolant and exposure of spent fuel.

This revision of RG 5.81 (Revision 1) incorporates lessons learned from operating experience. Specifically, this revision clarifies issues that have been identified through interactions with stakeholders and inspection activities since the original publication of the guide.

II. Additional Information

Regulatory Guide 5.81 contains OUO-SRI information. Accordingly, this RG is being withheld from public disclosure. It will be made available to those affected licensees and stakeholders who have an established need-to-know for access to the RG. The NRC did not announce the availability of the draft RG for public comment because the guide contains OUO-SRI information. Nonetheless, the NRC is issuing this notice to inform the public of the issuance of this revision to the RG.

On August 14, 2018, the NRC issued a memorandum (ADAMS Accession No. ML19324F694) transmitting the draft regulatory guide for comment to stakeholders who have an established need-to-know for access to the document. The stakeholders' comment period closed on October, 15, 2018. The NRC received 20 comments from stakeholders. The comments and the associated agency responses to the publc comments contain OUO-SRI information and are not available to the public. These comment responses can be obtained by those licensees and stakeholders who have established a need-to-know for access to the regulatory guide. For access to RG 5.81 or the comments and comment resolution documment, contact the individuals listed in the FOR FURTHER INFORMATION CONTACT section.

III. Congressional Review Act

This RG is a rule as defined in the Congressional Review Act (5 U.S.C. 801-808). However, the Office of Management and Budget has not found it to be a major rule as defined in the Congressional Review Act.

IV. Backfitting

This RG provides applicants or licensees with guidance to meet the requirements set forth in 10 CFR 73.55, “Requirements for Physical Protection of Licensed Activities in Nuclear Power Reactors Against Radiological Sabotage.” Issuance of this regulatory guide does not constitute backfitting as defined in 10 CFR 50.109, “Backfitting,” or affect issue finality of any approval issued under 10 CFR part 52, Licenses, Certificates, and Approvals for Nuclear Power Plants,” because as explained in Section D., “Implementation,” of the regulatory guide, NRC staff does not intend to use the guidance in this regulatory guide to support NRC staff actions in a manner that would constitute backfitting. If, in the future, the NRC seeks to impose a position in this regulatory guidein a manner that constitutes backfitting or affects the issue finality for a Part 52 approval, then the NRC will address the backfitting provision in 10 CFR 50.109 or the applicable issue finality provision in Part 52 respectively.

Dated at Rockville, Maryland, this 17th day of December 2019.
For the Nuclear Regulatory Commission.
Thomas H. Boyce,
Chief, Regulatory Guidance and Generic Issues Branch, Division of Engineering, Office of Nuclear Regulatory Research.

[FR Doc. 2019-27606 Filed 12-20-19; 8:45 am]

BILLING CODE 7590-01-P